DEPARTMENT OF ENERGY

Federal Energy Regulatory Commission

[Docket No. EC01-80-000, et al.]

Minnesota Power, Inc., et al.; Electric Rate and Corporate Regulation Filings

March 21, 2001.

Take notice that the following filings have been made with the Commission:

1. Minnesota Power, Inc. and Superior Water, Light and Power Company

[Docket No. EC01-80-000]

Take notice that on March 15, 2001, Minnesota Power, Inc. (MP) and its wholly-owned subsidiary, Superior Water, Light and Power Company (SWLP) tendered for filing an application under section 203 of the Federal Power Act to transfer operational control of their jurisdictional transmission facilities to the Midwest Independent Transmission System Operator, Inc. (Midwest ISO) at the time the Midwest ISO becomes operational.

Comment date: April 5, 2001, in accordance with Standard Paragraph E at the end of this notice.

2. American Transmission Systems, Inc., Ohio Edison Company, The Cleveland Electric Illuminating Company, The Toledo Edison Company

[Docket No. ER01-1560-000]

Take notice that on March 15, 2001, American Transmission Systems, Inc., tendered for filing on behalf of itself and Ohio Edison Company, The Cleveland Electric Illuminating Company, and The Toledo Edison Company, a Service Agreement for Network Integration Service and Operating Agreement for the Network Integration Transmission Service under the Ohio Retail Electric Program with Green Mountain Energy Company pursuant to the American Transmission Systems, Inc. Open Access Tariff. This agreement will enable the party to obtain Network Integration Service under the Ohio Retail Electric Program in accordance with the terms of the Tariff.

The proposed effective date under this agreement is April 1, 2001.

Comment date: April 5, 2001, in accordance with Standard Paragraph E at the end of this notice.

3. Maine Electric Power Company

[Docket No. ER01-1562-000]

Take notice that on March 15, 2001, Maine Electric Power Company (MEPCO) tendered for filing a service agreement for Short-Term Firm Point-to-Point Transmission Service entered into with NRG Power Marketing Inc. Service will be provided pursuant to MEPCO's Open Access Transmission Tariff, designated rate schedule MEPCO—FERC Electric Tariff, Original Volume No. 1, as supplemented, Original Service Agreement No. 66.

MEPCO requests that the agreement become effective March 15, 2001.

Comment date: April 6, 2001, in accordance with Standard Paragraph E at the end of this notice.

4. Oklahoma Gas and Electric Company

[Docket No. ER01-1567-000]

Take notice that on March 16, 2001, Oklahoma Gas and Electric Company filed an executed service agreement for long-term power sales pursuant to OG&E's FERC Electric Tariff, Original Volume No. 3, Sheet Nos. 1-6 as required by the Commission in Oklahoma Gas and Electric Co., 81 FERC ¶ 61,333 (1997).

OG&E requests that the agreement be effective as of May 1, 2001.

Comment date: April 6, 2001, in accordance with Standard Paragraph E at the end of this notice.

5. Oklahoma Gas and Electric Company

[Docket No. ER01-1568-000]

Take notice that on March 16, 2001, Oklahoma Gas and Electric Company (OG&E) filed to cancel its Electric Service Agreement with Municipal Energy Agency of Mississippi, which was designated Service Agreement No. 96 under OG&E FERC Electric Tariff, First Revised Volume No. 1, pursuant to section 35.15 of the Federal Energy Regulatory Commission's (Commission) regulations.

This filing has been served upon the affected purchaser.

Comment date: April 6, 2001, in accordance with Standard Paragraph E at the end of this notice.

6. Wisconsin Electric Power Company

[Docket No. ER01-1569-000]

Take notice that on March 16, 2001, Wisconsin Electric Power Company (Wisconsin Power) tendered for filing with the Federal Energy Regulatory Commission (Commission) a Notice of Cancellation of Service Agreement No. 74 and No. 80 under Wisconsin Electric's Coordination Sales Tariff (CST), FERC Electric Tariff First Revised Volume No. 2.

Wisconsin Electric requests an effective date of April 15, 2001.

Comment date: April 6, 2001, in accordance with Standard Paragraph E at the end of this notice.

7. Florida Power & Light Company

[Docket No. ER01-1571-000]

Take notice that on March 16, 2001, Florida Power & Light Company (FPL) tendered for filing proposed service agreements with Allegheny Energy Supply Company, L.L.C. for Non-Firm transmission service and Firm transmission service under FPL's Open Access Transmission Tariff.

FPL requests that the proposed service agreements become effective on March 16, 2001.

Comment date: April 6, 2001, in accordance with Standard Paragraph E at the end of this notice.

8. PJM Interconnection, L.L.C., Allegheny Power System operating companies: Monongahela Power Company, The Potomac Edison Company, West Penn Power Company

[Docket No. RT01-98-000]

Take notice that on March 15, 2001, PJM Interconnection, L.L.C. (PJM) and the Allegheny Power System operating companies: Monongahela Power Company, The Potomac Edison Company, and West Penn Power Company (hereinafter referred to collectively as Allegheny), jointly submitted a filing to establish PJM as the Regional Transmission Organization (RTO) for Allegheny pursuant to an arrangement known as “PJM West.”

PJM and Allegheny propose an effective date of January 1, 2002.

A copy of this filing was served on all state public utility commissions having jurisdiction over Allegheny or over any of the existing PJM transmission owners, on all PJM members, and on Allegheny's transmission customers, in addition to being posted on the PJM website.

Comment date: April 20, 2001, in accordance with Standard Paragraph E at the end of this notice.

9. Consumers Energy Company

[Docket No. ER01-318-003]

Take notice that on March 15, 2001, Consumers Energy Company (Consumers) tendered for filing the following tariff sheets as part of its FERC Electric Tariff No. 6 in compliance with the February 28, 2001 order issued in this proceeding:

Second Sub Original Sheet No. 134 and Sub Original Sheet No. 161. The sheets are to have an effective date of November 1, 2000. Copies of the filed agreement were served upon the Michigan Public Service Commission and those on the official service list in this proceeding.

Comment date: April 5, 2001, in accordance with Standard Paragraph E at the end of this notice.

10. St. Joseph Light & Power Co.

[Docket No. ER01-742-001]

Take notice that on March 15, 2001, UtiliCorp United Inc., tendered for filing a compliance filing in this docket.

Comment date: April 5, 2001, in accordance with Standard Paragraph E at the end of this notice.

11. Duke Electric Transmission, a division of Duke Energy Corporation

[Docket No. ER01-794-001]

Take notice that on March 16, 2001, Duke Electric Transmission (Duke ET), a division of Duke Energy Corporation tendered for filing a compliance filing in the above-referenced docket.

Comment date: April 6, 2001, in accordance with Standard Paragraph E at the end of this notice.

12. Wisconsin Electric Power Company

[Docket No. ER01-846-001]

Take notice that on March 15, 2001, Wisconsin Electric Power Company (Wisconsin Electric) tendered for filing a refund report for a refund made to Oconto Falls on January 8, 2001. The refund is for the amount of distribution demand charges collected above newly reduced demand charges, with interest, for the period May 15, 1996 through December 14, 2000.

Copies of the filing have been served on Oconto Falls, the Michigan Public Service Commission, and the Public Service Commission of Wisconsin.

Comment date: April 5, 2001, in accordance with Standard Paragraph E at the end of this notice.

13. Northeast Utilities Service Company

[Docket No. ER01-947-001]

Take notice that on March 15, 2001, Northeast Utilities Service Company (NUSCO), on behalf of The Connecticut Light and Power Company, tendered for filing an Interconnection Agreement by and between The Connecticut Light and Power Company and Connecticut Resources Recovery Authority (Agreement), dated December 22, 2000.

On March 2, 2001, the Commission issued a letter order in the above-captioned docket accepting the Agreement for filing on the condition that NUSCO re-file the Agreement within thirty days of the date of the letter order as a designated service agreement in compliance with the guidelines set forth in Southwest Power Pool, 92 FERC ¶ 61,109 (2000). NUSCO has designated the Agreement accordingly.

NUSCO seeks an effective date of the closing of the South Meadow transaction.

Comment date: April 5, 2001, in accordance with Standard Paragraph E at the end of this notice.

14. Deseret Generation & Transmission Co-operative, Inc.

[Docket No. ER01-1186-001]

Take notice that on March 15, 2001, Deseret Generation & Transmission Co-operative, Inc. (Deseret), tendered for filing First Revised Service Agreement No. 7 to Deseret's FERC Electric Tariff, Original Volume No. 3, amending a Confirmation Agreement between Deseret and Utah Associated Municipal Power Systems (UAMPS) for a firm power sale pursuant to the Western Systems Power Pool Agreement (WSPP Agreement).

Deseret requests an effective date of February 1, 2001.

Comment date: April 5, 2001, in accordance with Standard Paragraph E at the end of this notice.

15. Duke Energy Moapa, LLC

[Docket No. ER01-1208-001]

Take notice that on March 15, 2001, Duke Energy Moapa, LLC (Duke Moapa) tendered for filing a revision to its proposed FERC Electric Tariff, Original Volume No. 1 (Tariff), clarifying that all market information shared between Duke Moapa and any public utility with a franchised service territory that is an affiliate of Duke Moapa will be disclosed simultaneously to the public. No other changes were made to the Tariff or to Duke Moapa's Application for Order Accepting Rates for Filing, Determining Rates to be Just and Reasonable, and Granting Certain Waivers and Pre-Approvals, filed in Docket No. ER01-1208-000 on February 8, 2001.

Comment date: April 5, 2001, in accordance with Standard Paragraph E at the end of this notice.

16. Florida Power & Light Company

[Docket No. ER01-1236-001]

Take notice that on March 15, 2001, Florida Power & Light Company (FPL) tendered for filing a revision to the February 14, 2001 filing to show compliance with Order No. 614, FERC Stats. & Regs. ¶ 31,096 (2000).

Comment date: April 5, 2001, in accordance with Standard Paragraph E at the end of this notice.

17. Mississippi Power Company

[Docket No. ER01-1555-000]

Take notice that on March 15, 2001, Mississippi Power Company and Southern Company Services, Inc., its agent, tendered for filing a transmission Interconnection Agreement with Duke Energy Enterprises, LLC, pursuant to Southern Operating Companies' Open Access Transmission Tariff (FERC Electric Tariff, Fourth Revised Volume No. 5).

Copies of the filing were served upon Duke Energy Enterprises, LLC, the Mississippi Public Service Commission, and the Mississippi Public Utilities Staff.

Comment date: April 5, 2001, in accordance with Standard Paragraph E at the end of this notice.

18. Consumers Energy Company

[Docket No. ER01-1556-000]

Take notice that on March 15, 2001, Consumers Energy Company (Consumers) tendered for filing a letter Agreement between Distributed Power Systems, LLC [Generator] and Consumers, dated March 9, 2001 (Agreement). Under the Agreement, Consumers is to undertake certain pre-construction activities associated with providing an electrical connection between Consumers' transmission system and a generating plant to be built by Generator.

Consumers requested that the Agreements be allowed to become effective March 9, 2001.

Copies of the filing were served upon Generator and the Michigan Public Service Commission.

Comment date: April 5, 2001, in accordance with Standard Paragraph E at the end of this notice.

19. PPL Wallingford Energy LLC

[Docket No. ER01-1559-000]

Take notice that on March 15, 2001, PPL Wallingford Energy LLC (PPL Wallingford) tendered for filing with the Commission an application for authority to sell electric energy, capacity and specified ancillary services at market-based rates.

PPL Wallingford requests that the Commission permit its Market-Based Rate Tariff to become effective one business day from date of filing.

Comment date: April 5, 2001, in accordance with Standard Paragraph E at the end of this notice.

20. Alliant Energy Corporate Services Inc.

[Docket No. ER01-1563-000]

Take notice that on March 15, 2001, Alliant Energy Corporate Services Inc. (ALTM), tendered for filing a signed Service Agreement under ALTM's Market Based Wholesale Power Sales Tariff (MR-1) between itself and PECO Energy Company (PECO).

ALTM respectfully requests a waiver of the Commission's notice requirements, and an effective date of March 6, 2001.

Comment date: April 5, 2001, in accordance with Standard Paragaph E at the end of this notice.

21. Southwest Power Pool, Inc.

[Docket No. ER01-1564-000]

Take notice that on March 15, 2001, Southwest Power Pool, Inc. (SPP), tendered for filing an executed service agreement for Firm Point-to-Point Transmission Service with American Electric Power (Transmission Customer).

SPP seeks an effective date of April 1, 2001 for this service agreement.

A copy of this filing was served on the Transmission Customer.

Comment date: April 6, 2001, in accordance with Standard Paragraph E at the end of this notice.

22. California Independent System Operator Corporation

[Docket No. ER01-1565-000]

Take notice that on March 16, 2001, the California Independent System Operator Corporation, tendered for filing a Meter Service Agreement for ISO Metered Entities between the ISO and Los Alamos Energy, LLC for acceptance by the Commission.

The ISO states that this filing has been served on Los Alamos Energy, LLC and the California Public Utilities Commission.

The ISO is requesting waiver of the 60-day notice requirement to allow the Meter Service Agreement for ISO Metered Entities to be made effective March 15, 2001.

Comment date: April 6, 2001, in accordance with Standard Paragraph E at the end of this notice.

23. California Independent System Operator Corporation

[Docket No. ER01-1566-00]

Take notice that on March 16, 2001, the California Independent System Operator Corporation, tendered for filing a Participating Generator Agreement between the ISO and Los Alamos Energy, LLC for acceptance by the Commission.

The ISO states that this filing has been served on Los Alamos Energy, LLC and the California Public Utilities Commission.

The ISO is requesting waiver of the 60-day notice requirement to allow the Participating Generator Agreement to be made effective March 15, 2001.

Comment date: April 6, 2001, in accordance with Standard Paragraph E at the end of this notice.

24. Northern Iowa Windpower LLC

[Docket No. ER01-1570-000]

Take notice that on March 16, 2001, Northern Iowa Windpower LLC (Northern Iowa) petitioned the Commission for authority to sell electricity at market-based rates under Section 205(a) of the Federal Power Act, 16 U.S.C. § 824d(a); for the granting of certain blanket approvals and for the waiver of certain Commission regulations. Northern Iowa is a limited liability company that proposes to engage in the wholesale sale of electric power in the state of Iowa.

Comment date: April 6, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance). Comments, parties, and interventions may be filed electronically via the internet in lieu of paper. See, 18 CFR 385.2001(a)(1)(iii) and the instructions on the Commission's web site at http://www.ferc.fed.us.efi/doorbell.htm.

David P. Boergers,
Secretary.

[FR Doc. 01-7523 Filed 3-36-01; 8:45 am]

BILLING CODE 6717-01-M